DEPARTMENT OF ENERGY

10 CFR Part 430

[EERE-2020-BT-TP-0002]

RIN 1904-AE85

Energy Conservation Program: Definition of Showerhead

AGENCY: Office of Energy Efficiency and Renewable Energy, Department of Energy.

ACTION: Extension of public comment period.

SUMMARY: The U.S. Department of Energy (“DOE”) is extending the public comment period for the notice of proposed rulemaking (“NOPR”) regarding proposals to amend the regulatory definition of the statutory term “showerhead.” DOE published the NOPR in the Federal Register on August 13, 2020, establishing a 32-day public comment period ending September 14, 2020. Subsequently, DOE published a notification of public meeting (webinar) and extension of comment period on August 31, 2020, extending the comment period until September 30, 2020. On September 15, 2020, DOE received a comment requesting further extension of the comment period to a total of 90 to 120 days. DOE is extending the public comment period for submitting comments and data on the NOPR document by an additional 14 days, to October 14, 2020 for a total of a 62 day comment period.

DATES: The comment period for the NOPR published on August 13, 2020 (85 FR 49284), and extended on August 31, 2020 (85 FR 53707), is further extended. DOE will accept comments, data, and information regarding this NOPR received no later than October 14, 2020.

ADDRESSES: Interested persons are encouraged to submit comments using the Federal eRulemaking Portal at http://www.regulations.gov. Follow the instructions for submitting comments. Alternatively, interested persons may submit comments, identified by docket number EERE-2020-BT-TP-0002, by any of the following methods:

1. Federal eRulemaking Portal: http://www.regulations.gov. Follow the instructions for submitting comments.

2. Email: Showerheads2020TP0002@ee.doe.gov. Include the docket number EERE-2014-BT-TP-0002 in the subject line of the message.

3. Postal Mail: Appliance and Equipment Standards Program, U.S. Department of Energy, Building Technologies Office, Mailstop EE-5B, 1000 Independence Avenue SW, Washington, DC 20585-0121. Telephone: (202) 287-1445. If possible, please submit all items on a compact disc (CD), in which case it is not necessary to include printed copies.

4. Hand Delivery/Courier: Appliance and Equipment Standards Program, U.S. Department of Energy, Building Technologies Office, 950 L'Enfant Plaza SW, 6th Floor, Washington, DC 20024. Telephone: (202) 287-1445. If possible, please submit all items on a CD, in which case it is not necessary to include printed copies.

No telefacsimilies (faxes) will be accepted.

Docket: The docket for this activity, which includes Federal Register notices, comments, and other supporting documents/materials, is available for review at http://www.regulations.gov. All documents in the docket are listed in the http://www.regulations.gov index. However, some documents listed in the index, such as those containing information that is exempt from public disclosure, may not be publicly available.

The docket web page can be found at https://www.regulations.gov/docket?D=EERE-2020-BT-TP-0002. The docket web page contains instructions on how to access all documents, including public comments in the docket.

FOR FURTHER INFORMATION CONTACT: Mr. Bryan Berringer, U.S. Department of Energy, Office of Energy Efficiency and Renewable Energy, Building Technologies Office, EE-5B, 1000 Independence Avenue SW, Washington, DC 20585-0121. Telephone: (202) 586-0371. Email: ApplianceStandardsQuestions@ee.doe.gov.

Ms. Elizabeth Kohl, U.S. Department of Energy, Office of the General Counsel, GC-33, 1000 Independence Avenue SW, Washington, DC 20585-0121. Telephone: (202) 586-7796. Email: Elizabeth.Kohl@hq.doe.gov.

For further information on how to submit a comment or review other public comments and the docket contact the Appliance and Equipment Standards Program staff at (202) 287-1445 or by email: ApplianceStandardsQuestions@ee.doe.gov.

SUPPLEMENTARY INFORMATION: On August 13, 2020, DOE published a NOPR in the Federal Register soliciting public comment on a proposal to amend the regulatory definition of the statutory term “showerhead.” 85 FR 49284. Comments were originally due on September 14, 2020. Subsequently, DOE published a notification of public meeting (webinar) and extension of comment period on August 31, 2020, extending the comment period until September 30, 2020. 85 FR 53707. On September 15, 2020, DOE received a comment from Appliance Standards Awareness Project (“ASAP”), Alliance for Water Efficiency, American Council for an Energy-Efficient Economy (“ACEEE”), Consumer Federation of America, the Northwest Energy Efficiency Alliance (“NEEA”), and Natural Resources Defense Council (“NRDC”) to extend to a total of 90 to 120 days the DOE comment period for the NOPR.¹ DOE has reviewed the request and considered the benefit to stakeholders in providing additional time to review the NOPR, and gather information/data that DOE is seeking. Accordingly, DOE has determined that an extension of the comment period is appropriate, and is hereby extending the comment period by an additional 14 days, until October 14, 2020 for a total of a 62 day comment period.

¹ DOE has posted this comment to the docket at http://www.regulations.gov/document?D=EERE-2020-BT-TP-0002-0040.

Signing Authority

This document of the Department of Energy was signed on September 22, 2020, by Alexander N. Fitzsimmons, Deputy Assistant Secretary for Energy Efficiency, Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on September 22, 2020.
Treena V. Garrett,
Federal Register Liaison Officer, U.S. Department of Energy.

[FR Doc. 2020-21210 Filed 9-29-20; 8:45 am]

BILLING CODE 6450-01-P